DEPARTMENT OF ENERGY

Federal Energy Regulatory Commission

Notice of Effectiveness of Exempt Wholesale Generator Status

Ivanpah Master Holdings, LLC | Docket No. EG13-20-000
RE Rosamond One LLC | Docket No. EG13-23-000
RE Rosamond Two LLC | Docket No. EG13-24-000
Petra Nova Power I LLC | Docket No. EG13-25-000
Bay Wa r.e. Mozart, LLC | Docket No. EG13-26-000
Long Beach Generation LLC | Docket No. EG13-27-000
CCI Roseton LLC | Docket No. EG13-28-000
Imperial Valley Solar 1, LLC | Docket No. EG13-29-000
Gainesville Renewable Energy Center, LLC | Docket No. EG13-30-000

Take notice that during the month of June 2013, the status of the above-captioned entities as Exempt Wholesale Generators Companies became effective by operation of the Commission's regulations. 18 CFR 366.7(a).

Dated: July 26, 2013.
Kimberly D. Bose,
Secretary.

[FR Doc. 2013-18590 Filed 8-1-13; 8:45 am]

BILLING CODE 6717-01-P